DEPARTMENT OF HOMELAND SECURITY

Bureau of Customs and Border Protection

19 CFR Part 12

[CBP Dec. 03-25]

RIN 1515-AD38

Extension of Emergency Import Restrictions Imposed on Ethnological Material From Cyprus

AGENCY: Customs and Border Protection, Department of Homeland Security.

ACTION: Final rule.

SUMMARY: In T.D. 99-35, the Customs Regulations were amended to reflect the imposition of emergency import restrictions on certain ethnological material from Cyprus. These restrictions were imposed pursuant to a determination by the United States Information Agency issued under the terms of the Convention on Cultural Property Implementation Act in accordance with the 1970 United Nations Educational, Scientific and Cultural Organization (UNESCO) Convention on the Means of Prohibiting and Preventing the Illicit Import, Export and Transfer of Ownership of Cultural Property. Recently, the United States Department of State determined that conditions continue to warrant the imposition of these emergency import restrictions for a period not to exceed 3 years. Thus, this document amends the Customs regulations to reflect that the emergency import restrictions currently in place continue, without interruption, for 3 years from September 4, 2003. T.D. 99-35 contains the Designated List describing the Byzantine ecclesiastical and ritual ethnological material from Cyprus to which the restrictions apply.

EFFECTIVE DATE: This regulation and the extension of emergency import restrictions reflected in this regulation become effective on September 4, 2003.

FOR FURTHER INFORMATION CONTACT: (Regulatory Aspects) Joseph Howard, Intellectual Property Rights Branch (202) 572-8701; (Operational Aspects) Michael Craig, Office of Field Operations (202) 927-0370.

SUPPLEMENTARY INFORMATION:

Background

Pursuant to the provisions of the 1970 UNESCO Convention, codified into U.S. law as the Convention on Cultural Property Implementation Act (Pub. L. 97-446, 19 U.S.C. 2601, et seq.) (the Act), the United States, after a request was made by the Government of Cyprus on September 4, 1998, imposed emergency import restrictions on Byzantine ecclesiastical and ritual ethnological material from Cyprus for a period of 5 years from the date of the request. These restrictions and the list of materials covered by them were published in the Federal Register (64 FR 17529, April 12, 1999) by the U.S. Customs Service in Treasury Decision (T.D.) 99-35. The T.D. amended § 12.104g(b) of the Customs Regulations which lists emergency import restrictions on cultural property imposed under the Act. The restrictions became effective on April 12, 1999.

Under 19 U.S.C. 2603(c)(3), emergency restrictions may be extended for a period of 3 years upon a determination by the United States that the emergency condition continues to apply with respect to the articles covered by the restrictions. On August 25, 2003, the Acting Assistant Secretary for Educational and Cultural Affairs, Department of State, issued the determination that the emergency condition continues to apply to the articles covered in T.D. 99-35. Accordingly, Customs and Border Protection is amending § 12.104g(b) to reflect the extension of the emergency import restrictions for a 3-year period; this extension of restrictions commences on September 4, 2003. The list of ethnological materials contained in T.D. 99-35 and an accompanying image database may also be found at the following Internet website address: http://exchanges.state.gov/culprop.

Based on the foregoing, importation of these materials continues to be restricted unless the conditions set forth in 19 U.S.C. 2606 and 19 CFR 12.104c are met. For example, these materials may be permitted entry if accompanied by appropriate export certification issued by the Government of Cyprus or by documentation showing that exportation from Cyprus occurred before April 12, 1999.

The document also amends 19 CFR 12.104g(a) and 104g(b), in the third column heading of the lists set forth in those sections, by removing the words “T.D. No.” and replacing them with the words “Decision No.” This change is made in recognition of the fact that import restrictions are now published by CBP Decisions as opposed to Treasury Decisions. A conforming change is also made to the text of 19 CFR 12.104g(b).

This amendment to the regulations is being issued in accordance with § 0.2(a) of the Customs Regulations (19 CFR 0.2(a)) pertaining to the authority of the Secretary of Homeland Security (or his/her delegate) to prescribe regulations not involving customs revenue functions in accordance with the delegation of such authority by the Secretary of the Treasury.

Inapplicability of Notice and Delayed Effective Date

Because the amendment to the Customs Regulations contained in this document extends emergency import restrictions already imposed on the referenced cultural property of Cyprus under the terms of the Convention on Cultural Property Implementation Act (Pub. L. 97-446, 19 U.S.C. 2601 et seq.), in accordance with the 1970 UNESCO Convention and in furtherance of a foreign affairs function of the United States, pursuant to the Administrative Procedure Act (5 U.S.C. 553(a)(1)), no notice of proposed rulemaking or public procedure is necessary and a delayed effective date is not required.

Regulatory Flexibility Act

Because no notice of proposed rulemaking is required, the provisions of the Regulatory Flexibility Act (5 U.S.C. 601 et seq.) do not apply. Accordingly, this final rule is not subject to the regulatory analysis or other requirements of 5 U.S.C. 603 and 604.

Executive Order 12866

This amendment does not meet the criteria of a “significant regulatory action” as described in E.O. 12866.

Drafting Information

The principal author of this document was Bill Conrad, Regulations Branch, Office of Regulations and Rulings, Bureau of Customs and Border Protection.

List of Subjects in 19 CFR Part 12

Customs duties and inspections, Imports, Cultural property.

Amendment to the Regulations

Accordingly, Part 12 of the Customs Regulations (19 CFR Part 12) is amended, as set forth below:

PART 12—[AMENDED]

1. The general authority and specific authority citations for Part 12, in part, continue to read as follows:

Authority: 5 U.S.C. 301, 19 U.S.C. 66, 1202 (General Note 23, Harmonized Tariff Schedule of the United States (HTSUS)), 1624;

* * * * *

Sections 12.104 through 12.104i also issued under 19 U.S.C. 2612;

* * * * *

§ 12.104g [Amended]

2. Section 12.104g is amended as follows:

a. In paragraph (a), in the heading of column three of the chart, by removing the words “T.D. No.” and adding in their place the words “Decision No.”;

b. In paragraph (b), in the second sentence, by removing the words “Treasury Decision” and adding in their place the word “decision”;

c. In paragraph (b), in the heading of column three of the chart, by removing the words “T.D. No.” and adding in their place the words “Decision No.”; and

d. In paragraph (b), in the third column of the chart relative to the entry for Cyprus, by removing the citation “99-35” and adding in its place “T.D. 99-35 extended by CBP Dec. 03-25”.

Dated: August 26, 2003.
Robert C. Bonner,
Commissioner, Customs and Border Protection.

[FR Doc. 03-22137 Filed 8-28-03; 8:45 am]

BILLING CODE 4820-02-P